DEPARTMENT OF TRANSPORTATION

Federal Aviation Administration

Office of Commercial Space Transportation Safety Approval Performance Criteria

AGENCY: Federal Aviation Administration (FAA), DOT.

ACTION: Notification of criteria used to evaluate the Zero Gravity Corporation (Zero Gravity) safety approval application.

SUMMARY: The FAA issued Zero Gravity a safety approval, subject to the provisions of Title 51 U.S.C Subtitle V, ch. 509, and the orders, rules and regulations issued under it. Pursuant to 14 CFR 414.35, this Notice publishes the criteria that were used to evaluate the safety approval application.

Background: Zero Gravity applied for, and received, a safety approval for its capability to provide a reduced gravity environment using a Boeing 727 aircraft. The performance criteria for this safety approval are applicant developed per 14 CFR 414.19 (a)(4). Zero Gravity is capable of replicating three reduced gravity levels associated with suborbital space flight. The reduced gravity levels are:

—0.00 g ± 0.05 g for 17 continuous seconds.

—0.16 g ± 0.05 g for 20 continuous seconds.

—0.38 g ± 0.05 g for 20 continuous seconds.

Criteria Used To Evaluate Safety Approval Application: The reduced gravity environment provided by Zero Gravity was evaluated by the FAA as a component of a flight crew qualification and training process. The evaluation included the FAA's assessment of Zero Gravity's ability to accurately replicate the specified reduced gravity levels.

Zero-G submitted the following data to show how they were in compliance with the criteria:

—Parabolic Aircraft Acceleration Measurement System (PAAMS) power and calibration procedures,

—Parabolic Aircraft Acceleration Flight Data, and

—Gravity Level Reports.

FOR FURTHER INFORMATION CONTACT: For questions about the performance criteria, you may contact Randy Maday, Licensing and Evaluation Division (AST-200), FAA Office of Commercial Space Transportation (AST), 800 Independence Avenue, SW., Room 331, Washington, DC 20591, telephone (202) 267-8652; e-mail randal.maday@faa.gov.

Issued in Washington, DC, on May 17, 2011.
George C. Nield,
Associate Administrator for Commercial Space Transportation.

[FR Doc. 2011-12732 Filed 5-23-11; 8:45 am]

BILLING CODE 4910-13-P